DEPARTMENT OF COMMERCE

National Institute of Standards and Technology

Proposed Information Collection; Comment Request; Allocation of Resources for Fire Service and Emergency Medical Service

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 4, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Jason D. Averill, Fire Protection Engineer, 100 Bureau Drive, Gaithersburg, MD 20899-8664, (301) 975-2585; or jason.averill@nist.gov.

SUPPLEMENTARY INFORMATION:

I. Abstract

This information collection will be conducted by the Building and Fire Research Laboratory, a part of the National Institute of Standards and Technology, to establish a technical basis for optimal allocation of fire service and emergency medical service (EMS) resources. Presently, no scientifically-based method exists with which a fire chief or local administrator may evaluate the capacity of the fire and emergency medical services to respond to risks which are or may be present within the community served. Additionally, there is no validated capability to quantitatively evaluate alternative levels of hazard mitigation or services. This project will provide the technical foundation to model the existing community hazards and response capacity, as well as explore the impact of changes to the service capacity.

II. Method of Collection

Respondents from fire and emergency service districts throughout the U.S. will record event-specific fire and emergency medical response data through a secure, web-based database program. Respondents are authorized representatives of a fire or EMS district trained in the data entry format required in this data collection. The data will be collected in a statistically representative manner in order to support generalization of the findings to a wide array of communities in the U.S.

III. Data

OMB Number: 0693-0047.

Form Number: None.

Type of Review: Regular submission.

Affected Public: State, Local, or Tribal Government.

Estimated Number of Respondents: 400.

Estimated Time per Response: 10 minutes.

Estimated Total Annual Burden Hours: 4,267.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 27, 2009.
Gwellnar Banks,
Management Analyst, Office of the Chief Information Officer.

[FR Doc. E9-4554 Filed 3-3-09; 8:45 am]

BILLING CODE 3510-13-P